NATIONAL COUNCIL ON DISABILITY

Advisory Committee Meetings/Teleconferences

Times and Dates: 4:30 p.m. EDT, July 30, 2002 (meeting); 3 p.m. EDT, September 4, 2002 (teleconference).

Place: National Council on Disability, 1331 F Street, NW, Suite 850, Washington, DC.

AGENCY: National Council on Disability (NCD).

Status: All parts of these meetings will be open to the public. Those interested in participating in either of these meetings should contact the appropriate staff member listed below. Due to limited resources, only a few telephone lines will be available for the conference call.

Matters to be Considered: Roll call, announcements, reports, new business, adjournment.

FOR FURTHER INFORMATION CONTACT: Gerrie Drake Hawkins, Ph.D., Program Specialist, National Council on Disability, 1331 F Street NW., Suite 850, Washington, DC 20004; 202-272-2004 (voice), 202-272-2074 (TTY), 202-272-2022 (fax), ghawkins@ncd.gov (e-mail).

Cultural Diversity Advisory Committee Mission: The purpose of NCD's Cultural Diversity Advisory Committee is to provide advice and recommendations to NCD on issues affecting people with disabilities from culturally diverse backgrounds. Specifically, the committee will help identify issues, expand outreach, infuse participation, and elevate the voices of underserved and unserved segments of this nation's population that will help NCD develop federal policy that will address the needs and advance the civil and human rights of people from diverse cultures.

Dated: May 6, 2002.
Jeffrey T. Rosen,
General Counsel and Director of Policy.

[FR Doc. 02-13128 Filed 5-24-02; 8:45 am]

BILLING CODE 6820-MA-P